DEPARTMENT OF LABOR

Employment and Training Administration

[TA-W-65,733]

Wausau Paper Specialty Products, LLC, a Subsidiary of Wasau Paper Corporation, Jay, ME; Notice of Termination of Investigation

Pursuant to Section 221 of the Trade Act of 1974, as amended, an investigation was initiated on April 2, 2009, in response to a worker petition filed by the State Workforce Office on behalf of workers at Wausau Paper Specialty Products, LLC, a subsidiary of Wausau Paper Corporation, Jay, Maine.

The petitioner has requested that the petition be withdrawn. Consequently, the investigation has been terminated.

Signed at Washington, DC, this 13th day of April 2009.
Linda G. Poole,
Certifying Officer, Division of Trade Adjustment Assistance.

[FR Doc. E9-10892 Filed 5-8-09; 8:45 am]

BILLING CODE 4510-FN-P